DEPARTMENT OF TRANSPORTATION

14 CFR Part 71

[Docket No. FAA-2002-13817; Airspace Docket No. 02-AGL-09]

Modification of Class E Airspace; Indianapolis, IN; Correction

AGENCY: Federal Aviation Administration (FAA), DOT.

ACTION: Final rule; correction.

SUMMARY: This action corrects several errors contained in a final rule that was published in the Federal Register on Monday, November 25, 2002 (67 FR 70535). The final rule modified Class E airspace at Indianapolis, IN.

EFFECTIVE DATE: 0901 UTC, January 23, 2003.

FOR FURTHER INFORMATION CONTACT: Denis C. Burke, Air Traffic Division, Airspace Branch, AGL-520, Federal Aviation Administration, 2300 East Devon Avenue, Des Plaines, IL 60018, telephone (847) 294-7477.

SUPPLEMENTARY INFORMATION:

History

Federal Register Document 02-29899 published on Monday, November 25, 2002 (67 FR 70535), modified Class E Airspace at Indianapolis, IN. The Docket contained a duplicate airport location, left out an airport radius dimension, and showed an incorrect distance, all contained in the legal description. This action corrects these errors.

Accordingly, pursuant to the authority delegated to me, the errors for the Class E Airspace, Indianapolis, IN, as published in the Federal Register Monday, November 25, 2002 (67 FR 70535), (FR Doc. 02-29899), is corrected as follows:

§ 71.1 [Corrected]

1. On page 70535, Column 3, in the legal description:

a. Under “Indianapolis, Greenwood Municipal Airport, IN” and its associated lat. and long. Co-ordinates eliminates one of the: “Indianapolis, Eagle creek Airpark, IN” airport titles, and its associated lat. and long. Co-ordinates.

b. In the second (2nd) line of the airspace description, after “That airspace extending upward from 700 feet above the surface,” insert: “within a 7.9-mile radius of the Indianapolis International Airport,”

c. In the eighth (8th) line of the airspace description, correct: “7.4” to read: “7.9”.

Issued in Des Plaines, Illinois on January 3, 2003.
Nancy B. Shelton,
Manager, Air Traffic Division, Great Lakes Region.

[FR Doc. 03-1127 Filed 1-16-03; 8:45 am]

BILLING CODE 4910-13-M